INTERNATIONAL TRADE COMMISSION

[Inv. No. 337-TA-837]

Certain Audiovisual Components and Products Containing the Same; Institution of Investigation Pursuant to 19 U.S.C. 1337

AGENCY: U.S. International Trade Commission.

ACTION: Notice.

SUMMARY: Notice is hereby given that a complaint was filed with the U.S. International Trade Commission on March 12, 2012, under section 337 of the Tariff Act of 1930, as amended, 19 U.S.C. 1337, on behalf of LSI Corporation of Milpitas, California and Agere Systems Inc. of Allentown, Pennsylvania. Supplements to the Complaint were received on March 21, 26, and 28, 2012. An amended complaint was filed on March 28, 2012. The amended complaint alleges violations of section 337 based upon the importation into the United States, the sale for importation, and the sale within the United States after importation of certain audiovisual components and products containing the same by reason of infringement of certain claims of U.S. Patent No. 5,870,087 (“the `087 patent”); U.S. Patent No. 6,452,958 (“the `958 patent”); U.S. Patent No. 6,707,867 (“the `867 patent”); and U.S. Patent No. 6,982,663 (“the `663 patent”). The amended complaint further alleges that an industry in the United States exists as required by subsection (a)(2) of section 337.

The complainants request that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of the Secretary, Docket Services Division, U.S. International Trade Commission, telephone (202) 205-1802.

Authority: The authority for institution of this investigation is contained in section 337 of the Tariff Act of 1930, as amended, and in section 210.10 of the Commission's Rules of Practice and Procedure, 19 CFR 210.10 (2012).

Scope of Investigation: Having considered the complaint, the U.S. International Trade Commission, on April 11, 2012, ordered that—

(1) Pursuant to subsection (b) of section 337 of the Tariff Act of 1930, as amended, an investigation be instituted to determine whether there is a violation of subsection (a)(1)(B) of section 337 in the importation into the United States, the sale for importation, or the sale within the United States after importation of certain audiovisual components and products containing the same that infringe one or more of claims 1, 5, 7-11, and 16 of the `087 patent; claims 1-7, 10, 11, 22-26, 29, 30, 32, 35, and 36 of the `958 patent; claims 1, 4-7, 9-21, 23, 24, 26-40, 44, 45, 47, and 49-74 of the `867 patent; and claims 1-11 of the `663 patent, and whether an industry in the United States exists as required by subsection (a)(2) of section 337;

(2) For the purpose of the investigation so instituted, the following are hereby named as parties upon which this notice of investigation shall be served:

(a) The complainants are:

LSI Corporation, 1621 Barber Lane, Milpitas, CA 95305.

Agere Systems Inc., 1110 American Parkway NE., Allentown, PA 18109.

(b) The respondents are the following entities alleged to be in violation of section 337, and are the parties upon which the amended complaint is to be served:

Funai Electric Company, Ltd., 7-7-1 Nakagaito, Daito City, Osaka 574-0013, Japan.

Funai Corporation, Inc., 201 Route 17 North, Rutherford, NJ 07070.

P&F USA, Inc., 3015 Windward Plaza, Windward Fairways II—Suite 100, Alpharetta, GA 30005.

Funai Service Corporation, 2200 Spiegel Drive, Groveport, OH 43125.

MediaTek Inc., No. 1 Dusing Road 1, Hsinchu Science Park, Hsinchu City, Taiwan 30078.

MediaTek USA Inc., 2860 Junction Avenue, San Jose, CA 95134.

MediaTek Wireless, Inc. (USA), 120 Presidential Way, Woburn, MA 01801.

Ralink Technology Corporation, 5 Tai-Yuen 1st Street, 5F, Jhubei City, Hsinchu County, Taiwan 30265.

Ralink Technology Corporation (USA), 20833 Stevens Creek Boulevard, Suite 200, Cupertino, CA 95014.

Realtek Semiconductor Corporation, 2 Innovation Road II, Hsinchu Science Park, Hsinchu 300, Taiwan.

(3) For the investigation so instituted, the Chief Administrative Law Judge, U.S. International Trade Commission, shall designate the presiding Administrative Law Judge.

(4) The Office of Unfair Import Investigation will not participate as a party in this investigation.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By Order of the Commission.
Issued: April 11, 2012.
James R. Holbein,
Secretary to the Commission.

[FR Doc. 2012-9174 Filed 4-16-12; 8:45 am]

BILLING CODE 7020-02-P